DEPARTMENT OF AGRICULTURE

Forest Service

California Coast Provincial Advisory Committee

AGENCY: Forest Service, USDA.

ACTION: Notice of meeting.

SUMMARY: The California Coast Provincial Advisory Committee (PAC) will meet on September 17 and 18, 2003, in Ukiah, California. The purpose of the meeting is to conduct annual implementation monitoring of two projects completed in previous years, relating to standards and guidelines in the Northwest Forest Plan (NWFP).

DATES: The meeting will be held from 8:30 a.m. to 5 p.m., September 17 and 18, 2003.

ADDRESSES: The meeting will be held in the field both days, beginning at the Bureau of Land Management Office Conference Room, 2550 North State St., Ukiah, CA.

FOR FURTHER INFORMATION CONTACT: Phebe Brown, Committee Coordinator, USDA, Mendocino National Forest, 825 N. Humboldt Avenue, Willows, CA 95988, (530) 934-1137; EMAIL pybrown@fs.fed.us.

SUPPLEMENTARY INFORMATION: The two projects to be monitored are: (1) Cow Mountain prescribed burn (September 17), Bureau of Land Management Project; and (2) Howard Mill understory burn (September 18), Upper Lake Ranger District of the Mendocino National Forest. The meeting is open to the public.

Dated: August 14, 2003.
Phebe Y. Brown,
Staff Coordinator.

[FR Doc. 03-21428 Filed 8-20-03; 8:45 am]

BILLING CODE 3410-11-M